RAILROAD RETIREMENT BOARD

Proposed Collection; Comment Request

SUMMARY: In accordance with the requirement of Section 3506(c)(2)(A) of the Paperwork Reduction Act of 1995 which provides opportunity for public comment on new or revised data collections, the Railroad Retirement Board (RRB) publishes periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Statement of Claimed Railroad Service and Earnings; OMB 3220-0025. To qualify for unemployment of sickness benefits payable under section 2 of the Railroad Unemployment Insurance Act (RUIA), a railroad employee must have certain qualifying earnings in the applicable base year. In addition, to qualify for extended or accelerated benefits under Section 2 of the RUIA, a railroad employee who has exhausted his or her rights to normal benefits must have at least 10 years of railroad service (under certain conditions, military service may be credited as months of railroad service). Accelerated benefits are unemployment or sickness benefits that are payable to a railroad employee before the regular July 1 beginning date of a benefit year if an employee has 10 or more years of service and is not qualified for benefits in the current benefit year.

During the RUIA claims review process, the RRB may determine that unemployment or sickness benefits cannot be awarded because RRB records show insufficient qualifying service and/or compensation. When this occurs, the RRB allows the claimant the opportunity to provide additional information if they believe that the RRB service and compensation records are incorrect.

Depending on the circumstances, the RRB provides the following form(s) to obtain information needed to determine if a claimant has sufficient service or compensation to qualify for unemployment or sickness benefits.

Form No. and title | Annual responses | Estimated completion time (min) | Burden (hours)
UI-9—Applicant's Statement of Employment and Wages | 800 | 10 | 133
UI-23—Claimant's Statement of Service for Railroad Unemployment Insurance Benefits | 600 | 5 | 50
UI-44—Claim for Credit for Military Service (RUIA) | 150 | 5 | 13
ID-4F—Letter Advising of Ineligibility for RUIA Benefits | 25 | 5 | 2
ID-4U—Letter Advising of Service/Earnings Requirements for RUIA Benefits | 150 | 5 | 13
ID-4X—Letter Advising of Service/Earnings Requirements for Sickness Benefits | 100 | 5 | 8
ID-4Y—Letter Advising of Ineligibility for Sickness Benefits | 25 | 5 | 2
ID-20-1—Letter Advising that Normal Unemployment Benefits Are About to be Exhausted | 50 | 5 | 4
ID-20-2—Letter Advising that Normal Sickness Benefits Are about to be Exhausted | 100 | 5 | 8
ID-20-4—Letter Advising that Normal Sickness Benefits Are About to be Exhausted/Non-Entitlement | 5 | 5 | 1
Total | 2,005 |  | 234

The renewal of this information collection will continue to RRB's initiative to consolidate information collections by major functional areas. The purpose of the initiative is to bring related collection instruments together in one collection, better manage the instruments, and prepare for the electronic collection of this information. (A collection instrument can be an individual form, electronic collection, interview, or any other method that collects specific information from the public.

As part of the OMB renewal process, the RRB proposes that this collection (OMB 3220-0025), Statements of Claimed Railroad Service and Earnings, be renamed RUTA Investigations and Continuing Entitlement. Upon approval by OMB, the RRB intends to merge the following OMB approved collections into this collection by the expected expiration date(s).

OMB Collection No. and Title | RRB Forms | Expected expiration date
3220-0049—Investigation of Claim for Possible Days of Employment or State Benefits Received | ID-5T,ID-5R(SUP), ID-49R, UI-48 | 8/31/2000
3220-0057—Placement Service | ES-2, ES-20a, ES-20b, ES-21, ES-21c, UI-35, & Job Vacancies Report | 6/30/2001
3220-0079—Certification Regarding Rights to Unemployment Benefits | UI-45 | 8/31/2002
3220-0164—Availability to Work | UI-38, UI-38s, ID-8k | 5/31/2002
3220-0171—RUTA Claims Notification System | ID-4k | 6/30/2002

Revisions to existing collection instruments and, occasionally, a new instrument related to this program function may be required during the three-year cycle of this information collection. The RRB currently estimates the completion time for Form ID-5I, Letter to Non-Railroad Employers on Employment and Earnings of a Claimant at 15 minutes, Form ID-5R(SUP), Report of Employees Paid RUIA Benefits for Every Day in Month Reported as Month of Creditable Service at 10 minutes, Form ID-49R, Letter to Railroad Employer for Payroll Information at 15 minutes, Form UI-48, Claimant's Statement Regarding Benefit Claim for Days of Employment at 12 minutes, Form ES-2, Supplemental Information for Central Register at .25 minutes, Form ES-20a, Notice of Employment Referral at .75 minutes, Form ES-20b, Notice of Employment Referral (Employer) at .5 minutes, ES-21, Referral to State Employment Service, at .68 minutes, Form ES-21c, Report of State Employment Service Office at 1.5 minutes, Form UI-35, Field Office Record of Claimant Interview at 7 to 10.5 minutes, the Railroad Job Vacancy Report at 10 minutes, Form UI-45, Claimant Statement, Voluntary Leaving of Work, at 15 minutes, Form UI-38, Claimant's Report of Efforts to Find Work at 11.5 minutes, Form UI-38s, School Attendance and Availability Questionnaire at 6 to 10 minutes, Form ID-8k, Letter to Union Representative at 5 minutes, and Form ID-4k, Prepayment Claims Verification Notice at 2 minutes.

After the last information collection is merged and other necessary adjustments are made, the resultant information collection is expected to total approximately 5,200 annual burden hours. A justification for each action described above (merge collection, revised collection instrument, new collection instrument) will be provided to OMB with a correction Change Worksheet (OMB Form 83-C) at the time the action occurs. With the next renewal of this collection, the RRB will update the information collection package to account for the consolidation and other interim adjustment.

ADDITIONAL INFORMATION OR COMMENTS: To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received within 60 days of this notice.

Chuck Mierzwa,
Clearance Officer.

[FR Doc. 00-9514 Filed 4-14-00; 8:45 am]

BILLING CODE 7905-01-M